DEPARTMENT OF HEALTH AND HUMAN SERVICES

National Institutes of Health

Center for Scientific Review; Amended Notice of Meeting

Notice is hereby given of a change in the meeting of the Center for Scientific Review Special Emphasis Panel, October 4, 2005, 1:30 p.m. to October 4, 2005, 2:30 p.m., Bethesda Marriott, 5151 Pooks Hill Road, Bethesda, MD 20814 which was published in the Federal Register on September 16, 2005, 70 FR 54760-54762.

The meeting will be held November 3, 2005 at the National Institutes of Health, 6701 Rockledge Drive, Bethesda, MD 20882. The meeting time remains the same. The meeting is closed to the public.

Dated: October 21, 2005.
Anthony M. Coelho, Jr.,
Acting Director, Office of Federal Advisory Committee Policy.

[FR Doc. 05-21670 Filed 10-31-05; 8:45 am]

BILLING CODE 4140-01-M